DEPARTMENT OF THE INTERIOR

National Park Service

[2253-665]

Native American Graves Protection and Repatriation Review Committee: Meeting

AGENCY: National Park Service, Interior.

ACTION: Notice.

Notice is hereby given in accordance with the Federal Advisory Committee Act, 5 U.S.C. Appendix (1988), of a meeting of the Native American Graves Protection and Repatriation Review Committee (Review Committee). The Review Committee will meet on November 8-9, 2011, in Reno, NV, in room 103 of the National Judicial College. The National Judicial College is located on the upper campus of the University of Nevada-Reno, and is sited west of the intersection of Evans Avenue and Jodi Drive, just north of the Education building and south of the Applied Research Facility.

The agenda for this meeting will include the presentation, discussion, and adoption (conditional or otherwise) of the draft Review Committee Report to the Congress for 2011; appointment of the subcommittee to draft the Review Committee's Report to the Congress for 2012, and discussion of the scope of the Report; National NAGPRA Program reports; and the selection of the date and site for the spring 2013 meeting. In addition, the agenda may include requests to the Review Committee for a recommendation to the Secretary of the Interior, as required by law, in order to effect the agreed-upon disposition of Native American human remains determined to be culturally unidentifiable; presentations by Indian tribes, Native Hawaiian organizations, museums, Federal agencies, and the public; requests to the Review Committee, pursuant to 25 U.S.C. 3006(c)(3), for review and findings of fact related to the identity or cultural affiliation of human remains or other cultural items, or the return of such items; and the hearing of disputes among parties convened by the Review Committee pursuant to 25 U.S.C. 3006(c)(4). The agenda for this meeting will be posted on or before October 11, 2011, at http://www.nps.gov/nagpra.

The Review Committee is soliciting presentations by Indian tribes, Native Hawaiian organizations, museums, and Federal agencies on the progress made, and any barriers encountered, in implementing NAGPRA. The Review Committee also will consider other presentations by Indian tribes, Native Hawaiian organizations, museums, Federal agencies, and the public. A presentation request must, at minimum, include an abstract of the presentation and contact information for the presenter(s). Presentation requests must be received by August 23, 2011.

The Review Committee will consider requests for a recommendation to the Secretary of the Interior, as required by law, in order to effect the agreed-upon disposition of Native American human remains determined to be culturally unidentifiable (CUI). A CUI disposition request must include the appropriate, completed form posted on the National NAGPRA Program Web site and, as applicable, the ancillary materials noted on the form. To access and download the appropriate form—either the form for CUI with a “tribal land” or “aboriginal land” provenience or the form for CUI without a “tribal land” or “aboriginal land” provenience—go to http://www.nps.gov/nagpra, and then click on “Request for CUI Disposition Form.” CUI disposition requests must be received by August 16, 2011.

The Review Committee will consider requests, pursuant to 25 U.S.C. 3006(c)(3), for review and findings of fact related to the identity or cultural affiliation of human remains or other cultural items, or the return of such items, where consensus among affected parties is unclear or uncertain. A request for findings of fact must include the completed form posted on the National NAGPRA Program Web site and, as applicable, the ancillary materials noted on the form. To access and download the form, go to http://www.nps.gov/nagpra, and then click on “Request for Findings of Fact (Not a Dispute) Form.” Requests for findings of fact must be received by July 19, 2011.

The Review Committee will consider requests, pursuant to 25 U.S.C. 3006(c)(4), to convene parties and facilitate a dispute, where consensus clearly has not been reached among affected parties regarding the identity or cultural affiliation of human remains or other cultural items, or the return of such items. A request to convene parties and facilitate a dispute must include the completed form posted on the National NAGPRA Program Web site and, as applicable, the ancillary materials noted on the form. To access and download the form, go to http://www.nps.gov/nagpra, and then click on “Request to Convene Parties and Facilitate a Dispute Form.” Requests to convene parties and facilitate a dispute must be received by July 1, 2011.

A submission of 10 pages or less may be made in one of two ways:

1. Electronically (preferred). Electronic submissions are to be sent to: David_Tarler@nps.gov.

2. By mail. Mailed submissions are to be sent to: Designated Federal Officer, NAGPRA Review Committee, National Park Service, National NAGPRA Program, 1201 Eye Street, NW., 8th Floor (2253), Washington, DC 20005.

A submission of more than 10 pages may be made in one of two ways:

1. By mail, on a single compact disc (preferred).

2. By mail, in hard copy, with 14 copies of the submission.

Documents submitted are subject to posting on the National NAGPRA Program Web site prior to the meeting. Items produced at the meeting are subject to posting after the meeting.

Information about NAGPRA, the Review Committee, and Review Committee meetings is available on the National NAGPRA Program Web site, at http://www.nps.gov/nagpra. For the Review Committee's meeting procedures, click on “Review Committee,” then click on “Procedures.” Meeting minutes may be accessed by going to the Web site; then clicking on “Review Committee;” and then clicking on “Meeting Minutes.” Approximately fourteen weeks after each Review Committee meeting, the meeting transcript is posted for a limited time on the National NAGPRA Program Web site.

The Review Committee was established in Section 8 of the Native American Graves Protection and Repatriation Act of 1990 (NAGPRA), 25 U.S.C. 3006. Review Committee members are appointed by the Secretary of the Interior. The Review Committee is responsible for monitoring the NAGPRA inventory and identification process; reviewing and making findings related to the identity or cultural affiliation of cultural items, or the return of such items; facilitating the resolution of disputes; compiling an inventory of culturally unidentifiable human remains that are in the possession or control of each Federal agency and museum, and recommending specific actions for developing a process for disposition of such human remains; consulting with Indian tribes and Native Hawaiian organizations and museums on matters affecting such tribes or organizations lying within the scope of work of the Committee; consulting with the Secretary of the Interior on the development of regulations to carry out NAGPRA; and making recommendations regarding future care of repatriated cultural items. The Review Committee's work is carried out during the course of meetings that are open to the public.

Before including your address, phone number, e-mail address, or other personal identifying information in your comment, you should be aware that your entire comment—including your personal identifying information—may be made publicly available at any time. While you can ask us in your comment to withhold your personal identifying information from public review, we cannot guarantee that we will be able to do so.

Dated: February 1, 2011.
David Tarler,
Designated Federal Officer, Native American Graves Protection and Repatriation Review Committee.

[FR Doc. 2011-4959 Filed 3-3-11; 8:45 am]

BILLING CODE 4312-51-P